DEPARTMENT OF TRANSPORTATION

Federal Aviation Administration

Notice of Availability of the Final Environmental Impact Statement (FEIS) and Section 4(f) Evaluation for Proposed Development Activities at the Juneau International Airport, Juneau, AK; Notice of Public Comment Period for the FEIS and Schedule of Public Information Meeting; Notice of New Construction Significantly Affecting Wetlands and Finding of No Practicable Alternative

AGENCY: Federal Aviation Administration (FAA), Department of Transportation (DOT). The U.S. Army Corps of Engineers (USACE), U.S. Fish and Wildlife Service (USFWS), National Marine Fisheries Services (NMFS) and Alaska Department of Fish and Game (ADF&G) are cooperating agencies, by virtue of their jurisdictional authority, expertise, and/or resources management responsibilities.

ACTION: Notice of availability of Final Environmental Impact Statement, notice of public information meeting, and notice of public comment period.

Location of the Proposed Action: The Juneau International Airport is located within the City and Borough of Juneau (CBJ), approximately 9 miles northwest of downtown Juneau. Airport property encompasses approximately 662 acres of land. Approximately 21.3 acres of land located immediately east and west of the Airport on Mendenhall Wetlands State Game Refuge would need to be acquired for implementation of the preferred alternatives.

SUMMARY: The Federal Aviation Administration announces that a Final Environmental Impact Statement (FEIS) for Proposed Development Activities at the Juneau International Airport (JNU) has been prepared and is available for public review and comment. The FEIS includes the results of consultation with state and federal agencies regarding applicable statutes. The FEIS also discusses impacts to the base floodplain, wetlands and waters of the U.S. historic properties, essential fish habitat, wildlife, and DOT Section 4(f) resources and measures to mitigate those impacts.

The FAA is seeking comments on the FEIS, with specific attention to those sections that have been substantively updated since publication of the Draft EIS (DEIS). See SUPPLEMENTARY INFORMATION for a summary of the substantive changes contained in the FEIS. All comments on the FEIS are to be submitted either at the public meeting, or to SWCA Environmental Consultants, at the address shown in the section below entitled “Written Comments Should Be Sent To” or via the project Web site at http://www.jnu-eis.org.

SUPPLEMENTARY INFORMATION: The FAA as lead agency has prepared the FEIS for proposed development activities at the Juneau International Airport (JNU), Juneau, Alaska. These development activities include actions to:

• Bring the Airport into compliance with FAA standards for runway safety area,

• Improve navigational alignment with Runway 26 at night and during poor weather,

• Construct and use a new, larger snow removal equipment and maintenance facility,

• Develop an improved, safer, and more secure access route to the fuel farm,

• Construct new aircraft parking and storage facilities to meet existing and future demands, and

• Implement an improved wildlife hazard management program that will reduce potential for aircraft collisions with wildlife.

FAA published the Draft EIS (DEIS) in April 2005. The DEIS was prepared in accordance with the National Environmental Policy Act of 1969 (NEPA). The DEIS disclosed the environmental consequences associated with the proposed development activities at JNU and analyzed multiple alternatives associated with six Proposed Actions, including No Action Alternatives.

After publication of the FEIS, FAA issued new guidance (a change to Advisory Circular 150/5300-13) regarding undershoot protection requirements for runway safety areas (RSA). This new guidance provided FAA an opportunity to change some of the RSA configurations analyzed in the DEIS. As a result, the FEIS includes three additional RSA alternatives representing modifications of alternatives evaluated in the DEIS. These alternatives are identified as RSA-5D—Relocate Runway 26 Threshold and Construct Additional Runway and Safety Areas; RSA-5E—Displace Runway 08 Threshold 120 Feet and Construct Additional 26 Runway and Safety Area (Sponsor's Proposed Project); and RSA-6D—Threshold Displacement using Declared Distance Criteria with Option for EMAS. One of these modified alternatives, RSA-5E, was adopted by the Airport Sponsor as the Proposed Action and is the FAA's preferred alternative.

Other substantive FEIS changes were made in response to public comment on the DEIS, with particular efforts to reduce environmental impacts to the Refuge and important habitat. Among the changes included are an alternative location for placement of the Automated Surface Observation System, a modified channel configuration for the relocation of lower Duck Creek, additional hydraulic modeling for the tidal sloughs east of the existing runway, analysis of potential affects on Mendenhall River hydraulics and geomorphology, a conceptual compensatory mitigation plan, updated cost estimates, and detailed analysis of potential impacts to Alaska Airlines special navigation procedures employed at JNU.

Those portions of the FEIS containing the substantively updated information include but are not limited to the following sections and their subsections and their subsections: 2.2.2, 2.6, 2.11, 2.12, 2.13, 4.2, 4.3, and Appendices A, C, I, J, K, L, and M.

The proposed Airport improvements would be completed during the 2007-2015 time period and would result in impacts to wetlands, water quality, wildlife habitat, vegetation, essential fish habitat, visual quality, socioeconomics, air, noise and two DOT Section 4(f) properties, the Dike Trail and the Mendenhall Wetlands State Game Refuge.

FAA will not make decisions on the Proposed Actions for a minimum of 30 days following publication of this Notice of Availability of the FEIS in the Federal Register. FAA will record the appropriate decisions in a Record of Decision.

FEIS Availability and Review

Copies of the FEIS may be viewed during regular business hours at the following locations:

1. Federal Aviation Administration, Airports Division, 222 W. 7th Avenue #14, Anchorage, AK 99513-7504. (907) 271-5454 or (907) 271-5438.

2. Juneau International Airport, Airport Managers Office, 1873 Shell Simmons Drive, Juneau, AK (907) 789-7821.

3. Valley Branch Public Library, Mendenhall Mall, Juneau, AK 99801. (907) 789-0125.

4. Downtown Juneau Public Library, 292 Marine Way, Juneau, AK 99801. (907) 586-5249. The Juneau International Airport, Airport Manager's office has a limited number of CDs of the entire FEIS and Executive Summaries available for public distribution. These may be obtained by contacting the Airport Manager's Office at (907) 789-7821. The FEIS may also be viewed at the following Web site: http://www.jnu-eis.org.

Public Comment and Information Meeting: A public information meeting will be held on May 14, 2007, between 5 p.m. and 8 p.m. (ADT) at Centennial Hall, 101 Egan Drive, Juneau, AK 99801. A presentation regarding the FAA's preferred alternatives will be provided at 6:30 p.m. (ADT). Written comments on the sections of the document identified above may be submitted during the public information meeting or to the address listed in the section entitled “Written Comments Should Be Sent to”.

On-line comments may be submitted using the form provided at the project Web site http://www.jnu-eis.org by following the links to Public Comment Form. Comments should be as specific as possible and address the analysis of potential environmental impacts and the adequacy of the proposed action or merits of alternatives and the mitigation being considered. Reviewers should organize their participation so that it is meaningful and makes the agency aware of the reviewer's interests and concerns using quotations and other specific references to the text of the Final EIS and related documents. Matters that could have been raised with specificity during the comment period on the Draft EIS or Final EIS may not be considered if they are raised later in the decision process. This commenting procedure is intended to ensure that substantive comments and concerns are made available to the FAA in a timely manner so that the FAA has an opportunity to address them.

FOR FURTHER INFORMATION CONTACT: Patti Sullivan, Environmental Specialist, Federal Aviation Administration, Alaskan Region, Airports Division, 222 W. 7th Avenue #14, Anchorage, AK 99513-7504. Ms. Sullivan may be contacted during business hours at (907) 271-5454 (phone) and (907) 271-2851 (facsimile).

Written Comments Should Be Sent to: SWCA Environmental Consultants, ATTN: Juneau Airport EIS, 257 East 200 South, Ste. 200, Salt Lake City, Utah 84111.

Electronic comments may be submitted via the EIS Web site at http://www.jnu-eis.org.

All comments must be received no later than 5 p.m. (ADT) on June 11, 2007.

Issued in Anchorage, Alaska on April 17, 2007.
Byron K. Huffman,
Manager, Airports Division, Alaskan Region.

[FR Doc. 07-2000 Filed 4-20-07; 8:45 am]

BILLING CODE 4910-13-M